DEPARTMENT OF ENERGY

Federal Energy Regulatory Commission

[Docket No. CP19-14-000; PF18-4-000]

Notice of Application; Mountain Valley Pipeline, LLC

Take notice that on November 6, 2018, Mountain Valley Pipeline, LLC (Mountain Valley), 625 Liberty Avenue, Suite 2000, Pittsburgh, Pennsylvania 15222, filed in Docket No. CP19-14-000 an application pursuant to section 7(c) of the Natural Gas Act (NGA) and Parts 157 and 284 of the Commission's regulations for authorization to construct, own and operate its Southgate Project located in Virginia and North Carolina. Specifically, Mountain Valley proposes to construct: (i) Approximately 73 miles of new 24-inch and 16-inch-diameter pipeline, (ii) the 28,915 horsepower Lambert Compressor Station in Pittsylvania County, Virginia, and (iii) associated valves, piping, pig launching and receiving facilities, and appurtenant facilities. The proposed Southgate Project facilities commence near the City of Chatham, in Pittsylvania County, Virginia and terminate at a delivery point with Public Service Company of North Carolina, Inc. (PSNC) near the City of Graham in Alamance County, North Carolina. The Project is designed to create 375,000 dekatherms per day (Dth/d). Mountain Valley estimates the cost of the Southgate Project to be $468,459,509. Mountain Valley requests a separate rate zone and initial recourse rates for the Southgate Project facilities, all as more fully set forth in the application which is on file with the Commission and open to public inspection.

Commission staff has determined that this project qualifies as a Major Infrastructure Project pursuant to the Memorandum of Understanding Implementing One Federal Decision Under Executive Order 13807 (MOU) signed on April 10, 2018. Major Infrastructure Projects are defined as projects for which multiple authorizations by Federal agencies will be required and the lead Federal agency has determined that it will prepare an Environmental Impact Statement under the National Environmental Policy Act, 42 U.S.C. 4321 et seq.

The filing is available for review at the Commission in the Public Reference Room or may be viewed on the Commission's website web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to William Lavarco, NextEra Energy, Inc., 801 Pennsylvania Ave. NW, Suite 220, Washington, DC 20004, by telephone at (202) 347-7127, or by email at William.Lavarco@nee.com.

On May 15, 2018, the Commission staff granted Mountain Valley's request to utilize the Pre-Filing Process and assigned Docket No. PF18-4-000 to staff activities involved in the Southgate Project. Now, as of the filing of the November 6, 2018 application, the Pre-Filing Process for this project has ended. From this time forward, this proceeding will be conducted in Docket No. CP19-14-000, as noted in the caption of this Notice.

Pursuant to section 157.9 of the Commission's rules (18 CFR 157.9), within 90 days of this Notice, the Commission staff will either: Complete its environmental impact statement (EIS) and place it into the Commission's public record (eLibrary) for this proceeding; or issue a Notice of Schedule for Environmental Review. If a Notice of Schedule for Environmental Review is issued, it will indicate, among other milestones, the anticipated date for the Commission staff's issuance of the final EIS for this proposal. The filing of the final EIS in the Commission's public record for this proceeding or the issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made with the Commission and must provide a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list and will be notified of any meetings associated with the Commission's environmental review process. Environmental commentors will not be required to serve copies of filed documents on all other parties. However, the non-party commentors will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to “show good cause why the time limitation should be waived,” and should provide justification by reference to factors set forth in Rule 214(d)(1) of the Commission's Rules and Regulations.²

¹ Tennessee Gas Pipeline Company, L.L.C., 162 FERC ¶61,167 at ¶50 (2018).

² 18 CFR 385.214(d)(1).

The Commission strongly encourages electronic filings of comments, protests and interventions in lieu of paper using the “eFiling” link at http://www.ferc.gov. Persons unable to file electronically should submit an original and 3 copies of the protest or intervention to the Federal Energy regulatory Commission, 888 First Street NE, Washington, DC 20426.

Comment Date: 5:00 p.m. Eastern Time on December 10, 2018.

Dated: November 19, 2018.
Kimberly D. Bose,
Secretary.

[FR Doc. 2018-25637 Filed 11-23-18; 8:45 am]

BILLING CODE 6717-01-P